DEPARTMENT OF HEALTH AND HUMAN SERVICES

Administration for Children and Families

[Assistance Listing Number: 93.576]

Announcement of Intent To Award an Unsolicited Cooperative Agreement to Church World Services (CWS) Headquartered in New York, NY

AGENCY: Refugee Program, Office of Refugee Resettlement (ORR), Administration for Children and Families (ACF), Department of Health and Human Services (HHS).

ACTION: Notice of Issuance of an Unsolicited Award.

SUMMARY: ACF, ORR, Refugee Program announces the intent to award an unsolicited cooperative agreement in the amount of up to $1,984,144 to Church World Services (CWS) in New York, NY. The purpose of this award is to provide enhanced refugee housing solutions for Afghan and Ukrainian humanitarian parolees and other ORR-eligible populations. This proposal seeks to create a local resources directory for housing, increase access to housing resources for vulnerable refugee and humanitarian parolee populations, expand innovative and replicable solutions through capacity building and key partnerships, address challenges to identifying and securing safe, affordable housing options, and provide a bank of housing resources for both refugees and community sponsors.

DATES: The proposed period of performance is September 30, 2023, to September 29, 2024.

FOR FURTHER INFORMATION CONTACT: Yimeem Vu, Program Specialist, Administration for Children and Families, Office of Refugee Resettlement, Mary E. Switzer Building, 330 C Street SW, Washington, DC 20201. Telephone: 202-401-4825; Email: Yimeem.Vu@acf.hhs.gov.

SUPPLEMENTARY INFORMATION: On March 30, 2023, Church World Services (CWS), on behalf of its Refugee Housing Solutions (RHS) initiative, submitted an unsolicited proposal to ORR for “Enhancing Refugee Housing Solutions.” One area of focus is directed towards eligible Ukrainian and Afghan Humanitarian Parolees and the other to all ORR-eligible populations. The first focus aims at addressing challenges in securing affordable, long-term housing for Afghan and Ukrainians through the following three means: (1) creating a `Housing Hub' with a local resources directory and information specific to housing solutions for these populations (and translated into relevant languages); (2) increasing access to housing resources for both eligible humanitarian parolees and their sponsors; and (3) expanding innovation efforts through capacity building and key partnerships. The second area of focus aims to address challenges in securing affordable housing for all ORR-eligible populations and identify more housing options for resettlement stakeholders to utilize. This proposal seeks to achieve this by advancing innovative housing initiatives (through consultation and guidance) in collaboration with new and existing partners from nontraditional resettlement backgrounds.

RHS is currently funded by the Department of State's Bureau of Population, Refugees, and Migration (PRM) to provide Reception and Placement housing education and training, targeted assistance, piloting of three housing initiatives, expanding housing access, and reimagining refugee housing. Unlike the proposals submitted to ORR, the work done by RHS through PRM funding does not include services specifically for Ukrainian and Afghan humanitarian parolees, in addition to other ORR-populations outside of refugees. In addition, some of the concurrent work of the PRM contract will bolster the initiatives proposed to ORR, including consulting on additional innovative housing pilot programs and collection of localized resources for a housing `hub' and directory. Further, RHS receives a subaward from ORR for housing education, training, and technical assistance through the grant to the International Rescue Committee's Switchboard. The activities of that subaward do not overlap with the suggested activities of these unsolicited proposals but could add to the bank of resources provided to newcomers and their sponsors as outlined in the first proposal. RHS is stating that their capacity to achieve the proposed activities is not possible with current levels of funding from PRM and the technical assistance subaward from ORR.

ORR intends to award CWS with one cooperative agreement for the project “Enhancing Refugee Housing Solutions.” After both internal and external reviews, ORR concluded with the intent to award this unsolicited proposal based on a desire to address stakeholder concerns regarding housing access and affordability and considering that the capacity of CWS would need to be expanded through additional funding to address these challenges. Various stakeholders across the nation, including grant recipient organizations, State Refugee Coordinators, local community and ethnic community-based organizations, and beneficiaries have raised concerns over the last year of housing affordability and housing stock availability for the long-term placement of resettled refugees and newcomers, particularly those with large families, and often cite housing as the number one challenge facing resettlement. Further, ORR participates with RHS through various public/private housing working groups. Through these conversations and presentations, it is apparent that RHS is unique in its mission to provide refugee housing technical assistance, identity solutions specific to refugee housing, and represent RHS partners, including all 10 national resettlement agencies, in housing concerns. However, RHS is not currently funded at a capacity that allows them to expand capabilities and advance innovative and replicable housing solutions to meet the needs of all ORR-eligible populations.

Statutory Authority: Immigration and Nationality Act section 412(c)(1)(A), 8 U.S.C. 1522(c)(1)(A).

Elizabeth Leo,
Senior Grants Policy Specialist, Office of Grants Policy, Office of Administration.

[FR Doc. 2023-22028 Filed 9-29-23; 4:15 pm]

BILLING CODE 4184-89-P